DEPARTMENT OF THE INTERIOR

National Park Service

General Management Plan/Environmental Assessment, Carter G. Woodson Home National Historic Site, District of Columbia

AGENCY: National Park Service, Department of the Interior.

ACTION: Notice of Intent to Prepare an Environmental Assessment for the General Management Plan, Carter G. Woodson Home National Historic Site.

SUMMARY: Under the provisions of the National Environmental Policy Act, the National Park Service (NPS) is preparing an Environmental Assessment (EA) for the General Management Plan (GMP) for Carter G. Woodson Home National Historic Site. The GMP will prescribe the resource conditions and visitor experiences that are to be achieved and maintained in the national historic site over the next 20 years. Based on determinations of desired conditions, the GMP will outline the kinds of resource management activities, visitor activities, land acquisition and development that would be appropriate in the park in the future. The responsible official for the EA is the Regional Director, National Capital Region. To date, the NPS has conducted two public scoping meetings.

DATES: As part of the initial planning efforts, the NPS initiated public scoping for this project on October 2, 2008, with a public scoping meeting held at the 93rd Annual Association for the Study of African American Life and History (ASALH) Convention in Birmingham, Alabama. An additional public scoping meeting was held in the District of Columbia on November 12, 2008. The NPS will continue public scoping for an additional 45 days from the date of publication of this notice in the Federal Register.

ADDRESSES: There are two opportunities to formally comment on the project—during this public scoping period and again following release of the draft GMP/EA. You may submit comments on the NPS's Planning, Environment, and Public Comment (PEPC) Web site at http://parkplanning.nps.gov/cawo. Comments on this proposed action may also be mailed or hand-delivered to: Superintendent Gayle Hazelwood, c/o GMP for the Carter G. Woodson Home National Historic Site, National Capital Parks East, 1900 Anacostia Drive, SE., Washington, DC 20020-6722.

Before including your address, phone number, e-mail address, or other personal identifying information in your comment, you should be aware that your entire comment—including your personal identifying information—may be made publicly available at any time. Although you can ask us in your comment to withhold your personal identifying information from public review, we cannot guarantee that we will be able to do so. We will make all submissions from organizations, businesses, or individuals identifying themselves as representatives or officials of organizations or businesses, available for public inspection in their entirety.

FOR FURTHER INFORMATION CONTACT: Superintendent Gayle Hazelwood, National Capital Parks East, at 1900 Anacostia Drive, SE., Washington, DC 20020-6722, by telephone at (202) 690-5127, or telefax at (202) 690-1425. Information will also be available online throughout the scoping and planning process at http://parkplanning.nps.gov/cawo.

SUPPLEMENTARY INFORMATION: Carter G. Woodson Home National Historic Site is in Washington, DC. Congress authorized the site on December 19, 2003, and charged NPS with the responsibility to acquire and manage the site in accordance with this Act and with laws generally applicable to units of the National Park System, including the Act of August 25, 1916 (16 U.S.C. 1, 2-4) and the Act of August 21, 1935 (16 U.S.C. 461 et seq.). The enabling legislation also states that the Secretary of the Interior may acquire any of the three properties immediately north of the Carter G. Woodson Home, may enter into an agreement with public or private entities to restore and rehabilitate the Woodson Home and other properties within the boundary, and may enter into cooperative agreements with public or private entities to provide public interpretation and education of African-American heritage in the Shaw area of the District of Columbia. Further, the legislation allows the Secretary of the Interior to “* * * enter into an agreement with The Association for the Study of African-American Life and History that allows the association to use a portion of the historic site for its own administrative purposes.”

Alternatives will be developed through this planning process. Major issues considered during this process will include the protection and interpretation of the Carter G. Woodson Home, adaptive re-use of historic structures, quality of visitor experience, land acquisition, and potential relationships with The Association for the Study of African American Life and History and other potential agencies, organizations, and local interests.

Dated: April 27, 2009.
Margaret O'Dell,
Regional Director, National Capital Region.

[FR Doc. E9-11378 Filed 5-14-09; 8:45 am]

BILLING CODE 4312-JK-P